DEPARTMENT OF COMMERCE

Foreign-Trade Zones Board

[S-152-2017]

Approval of Expansion of Subzone 214A; Consolidated Diesel Company, Enfield, North Carolina

On September 26, 2017, the Executive Secretary of the Foreign-Trade Zones (FTZ) Board docketed an application submitted by the North Carolina Department of Transportation, grantee of FTZ 214, requesting the expansion of Subzone 214A subject to the existing activation limit of FTZ 214, on behalf of Consolidated Diesel Company, in Enfield, North Carolina.

The application was processed in accordance with the FTZ Act and Regulations, including notice in the Federal Register inviting public comment (82 FR 46036, October 3, 2017). The FTZ staff examiner reviewed the application and determined that it meets the criteria for approval. Pursuant to the authority delegated to the FTZ Board Executive Secretary (15 CFR Sec. 400.36(f)), the application to expand Subzone 214A and to remove existing Site 3 was approved on November 28, 2017, subject to the FTZ Act and the Board's regulations, including Section 400.13, and further subject to FTZ 214's 2,000-acre activation limit.

Dated: November 29, 2017.
Andrew McGilvray,
Executive Secretary.

[FR Doc. 2017-26166 Filed 12-4-17; 8:45 am]

BILLING CODE 3510-DS-P